SMALL BUSINESS ADMINISTRATION

Advisory Committee on Veterans Business Affairs; Public Meeting

The U.S. Small Business Administration (SBA), pursuant to the Veterans Entrepreneurship and Small Business Development Act of 1999 (Pub. L. 106-50), will be hosting the second meeting of the Advisory Committee on Veterans Business Affairs. The meeting will be held at 409 3rd Street, SW., Washington, DC 20416, on Tuesday, June 24, 2003, from 9 a.m. to 5 p.m. and on Wednesday, June 25, 2003, from 9 a.m. to 12 p.m.

If you have any questions or concerns regarding the meeting, please contact Ms. Cheryl Clark in the Office of Veterans Business Development (OVBD) at (202) 619-1697.

Candace H. Stoltz,
Director of Advisory Councils, Office of Communications.

[FR Doc. 03-14852 Filed 6-11-03; 8:45 am]

BILLING CODE 8025-01-P